DEPARTMENT OF AGRICULTURE

Rural Business-Cooperative Service

Rural Business Lending National Stakeholder Forum 2016—Business and Industry Guaranteed Loan Program

AGENCY: Rural Business-Cooperative Service, USDA.

ACTION: Notice of a public meeting.

SUMMARY: The Rural Business-Cooperative Service (RBS), an Agency within USDA Rural Development, is holding a forum to introduce the updated Business and Industry (B&I) Guaranteed Loanmaking and Servicing Regulations, as published in the Federal Register Friday, June 3, 2016. Major changes to the program include strengthened criteria for non-regulated lender participation, provisions for New Markets Tax Credit and Cooperative Stock Purchase Program, and modified loan scoring criteria.

Speakers from the Agency will discuss the new rule to educate lenders and borrowers on changes to program eligibility and servicing. The National Stakeholder Forum can be attended via webinar or in person.

DATES: National Stakeholder Forum: The National Stakeholder Forum will be held on Friday, July 29, 2016, from 1:00 p.m. to 3:00 p.m. Eastern Daylight Time.

Registration: It is requested that you register by 12 p.m. Eastern Daylight Time Wednesday, July 27, 2016, to attend the forum in person. See the Instructions for Attending the Meeting section of this notice for additional information. If you wish to participate via webinar, you must register for the webinar at https://cc.readytalk.com/r/njphkhxlsyvr&eom prior to or during the webinar.

ADDRESSES: The National Stakeholder Forum will take place in Room 107-A of the Whitten Building on 1400 Jefferson Drive SW., located between 12th and 14th Streets SW., in Washington DC 20250.

FOR FURTHER INFORMATION CONTACT: Janna Bruce, Rural Business-Cooperative Service, Room 6858, 1400 Independence Avenue SW., Washington, DC 20250, Telephone: (202)401-0081. Email: Janna.Bruce@wdc.usda.gov. Persons with disabilities who require alternative means for communication of program information (Braille, large print, audiotape, etc.) should contact Janna Bruce using the information above.

SUPPLEMENTARY INFORMATION: The B&I Guaranteed Loan Program is authorized by the Consolidated Farm and Rural Development Act and provides loan guarantees to banks and other approved lenders to finance private businesses located in rural areas. The Rural Business-Cooperative Service (Agency) is the agency within the Rural Development mission area of the United States Department of Agriculture (USDA) responsible for administering the B&I Guaranteed Loan Program. The Agency published a proposed rule on September 15, 2014, that proposed changes to refine the regulations for the B&I Guaranteed Loan Program in an effort to improve program delivery, clarify the regulations to make them easier to understand, and reduce delinquencies. The final rule was published in the Federal Register on June 3, 2016 (https://federalregister.gov/a/2016-12945).

In order to familiarize the public with the new rule, representatives from the U.S. Department of Agriculture (USDA) are conducting this National Stakeholder Forum. Discussion points will include the new criteria for non-regulated lender participation, expanded program eligibility, and changes to loan servicing requirements. Participants will be afforded the opportunity to ask questions on the material in the presentation through the webinar software or in person.

Date: July 29, 2016.

Time: 1:00 p.m.-3:00 p.m., Eastern Daylight Time.

Location information: USDA Whitten Building, 1400 Jefferson Drive SW., Room 107-A, Washington, DC 20250.

Instructions for Attending the Meeting

Space for attendance at the meeting is limited. Due to USDA headquarters security and space requirements, all persons wishing to attend the forum in person must send an email to Janna.Bruce@wdc.usda.gov with “RBS Stakeholder Forum” in the subject line by 12 p.m. Eastern Daylight Time Wednesday, July 27, 2016. Registrations will be accepted until maximum room capacity is reached. Seating will be available on a first come, first serve basis.

To register, provide the following information:

• First and Last Names

• Organization

• Title

• Email

• City, State

Upon arrival at the USDA Whitten Building, registered persons must provide valid photo identification in order to enter the building; visitors need to enter the Whitten Building on the mall side. Please allow extra time to get through security.

USDA Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.ascr.usda.gov/filing-program-discrimination-complaint-usda-customer and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW., Washington, DC 20250-9410;

(2) fax: (202) 690-7442; or

(3) email: program.intake@usda.gov.

USDA is an equal opportunity provider, employer, and lender.

Dated: July 8, 2016.
Samuel H. Rikkers,
Administrator, Rural Business-Cooperative Service.

[FR Doc. 2016-16921 Filed 7-15-16; 8:45 am]

BILLING CODE 3410-XY-P